DEPARTMENT OF THE INTERIOR

Bureau of Land Management

[CA-910-5850-EU-CACA-48476]

Notice of Realty Action: Competitive Sale of Public Lands in Riverside County, CA; Correction

AGENCY: Bureau of Land Management, Interior.

ACTION: Notice of Realty Action; Correction.

SUMMARY: The Bureau of Land Management published a document in the Federal Register of March 12, 2007, concerning the sale of 51 parcels of public land in Riverside County, California, aggregating approximately 274.37 acres. The document contained (a) an inaccurate legal description for Parcel 33 and (b) the inadvertent omission of a parcel from two sentences contained in the SUPPLEMENTARY INFORMATION.

FOR FURTHER INFORMATION CONTACT: Tom Gey, Realty Specialist at (951) 697-5352 or via e-mail at thomas_gey@ca.blm.gov.

Correction

In the Federal Register of March 12, 2007, in FR Doc. E7-4420, on page 11051, in the first column, correct

``Parcel 33 T. 4 S., R. 7 E., sec. 4,

S½SW¼NW¼SE¼” as follows

``Parcel 33 T. 4 S., R. 7 E., sec. 4,

S½NW¼SW¼SE¼”

and in the Federal Register of March 12, 2007, in FR Doc. E7-4420, on page 11051, in the second column, in the second and third sentences in the first paragraph, correct “parcel 1” as follows “parcels 1 and 2”.

Dated: March 22, 2007.
John Willoughby,
Acting Deputy State Director, Natural Resources (CA-930).

[FR Doc. E7-5657 Filed 3-27-07; 8:45 am]

BILLING CODE 4310-40-P